INTERNATIONAL TRADE COMMISSION

[Investigation No. 337-TA-1016]

Certain Access Control Systems and Components Thereof; Commission Determination Not To Review an Initial Determination Granting Complainant's Motion To Amend the Complaint and Notice of Investigation

AGENCY: U.S. International Trade Commission.

ACTION: Notice.

SUMMARY: Notice is hereby given that the U.S. International Trade Commission has determined not to review an initial determination (“ID”) (Order No. 4) of the presiding administrative law judge (“ALJ”), granting complainant's motion to amend the complaint and notice of investigation in the above-captioned investigation.

FOR FURTHER INFORMATION CONTACT: Clint Gerdine, Esq., Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on August 9, 2016, based on a complaint filed on behalf of The Chamberlain Group, Inc. of Elmhurst, Illinois. 81 FR 52713. The complaint, as supplemented, alleges violations of section 337 of the Tariff Act of 1930, as amended, 19 U.S.C. 1337, by reason of infringement of the following U.S. Patent Nos.: 7,161,319; 7,196,611; and 7,339,336. The complaint further alleges that a domestic industry exists. The Commission's notice of investigation named six respondents. The Office of Unfair Import Investigations is not participating in the investigation.

On September 23, 2016, complainant filed an unopposed motion to amend the complaint and notice of investigation (“NOI”) to add two entities as respondents: (1) Techtronic Trading Limited of Kwai Chung, Hong Kong; and (2) Techtronic Industries Factory Outlets Inc., d/b/a Direct Tools Factory Outlet of Anderson, South Carolina.

The ALJ issued the subject ID on September 28, 2016, granting complainant's motion to amend the complaint and NOI. He found that good cause exists to grant the motion to amend under Commission Rule 210.14(b)(1) (19 CFR 210.14(b)(1)). No petitions for review were filed.

The Commission has determined not to review the ID.

The authority for the Commission's determination is contained in section 337 of the Tariff Act of 1930, as amended, 19 U.S.C. 1337, and in part 210 of the Commission's Rules of Practice and Procedure, 19 CFR part 210.

By order of the Commission.
Issued: October 27, 2016.
Lisa R. Barton,
Secretary to the Commission.

[FR Doc. 2016-26397 Filed 11-1-16; 8:45 am]

BILLING CODE 7020-02-P